Proclamation 9583 of March 31, 2017

National Donate Life Month, 2017

By the President of the United States of America

A Proclamation

Every day, Americans sustain the miracle of life by generously donating their organs and tissue to others in need. During National Donate Life Month, we honor the living and deceased donors who gave so others could live, and celebrate the remarkable achievements of our healthcare and science professionals who perform transplants and create techniques to make the gift of life possible.

We also continue our efforts to raise awareness of the life-saving potential Americans have as donors. The Organ Procurement and Transplantation Network reports that 33,606 transplants were performed during 2016, which is an 8.5 percent increase from 2015.

Still, additional donors are urgently needed. More than 118,000 people are currently waiting for organ transplants, and thousands of our family members and friends die each year waiting for matches. This month we remind Americans that people of all ages and from all walks of life can help save lives. Remarkably, one organ donor can save up to eight lives. One tissue donor can help 75 people heal. I encourage Americans everywhere to learn about how they can participate in the gift of life by becoming organ and tissue donors, and the many other ways they can give to those in need.

NOW, THEREFORE, I, DONALD J. TRUMP, President of the United States of America, by virtue of the authority vested in me by the Constitution and the laws of the United States, do hereby proclaim April 2017 as National Donate Life Month. I call upon healthcare professionals, volunteers, educators, government agencies, faith-based and community groups, and private organizations to help raise awareness of the urgent need for organ and tissue donors throughout our Nation.

IN WITNESS WHEREOF, I have hereunto set my hand this thirty-first day of March, in the year of our Lord two thousand seventeen, and of the Independence of the United States of America the two hundred and forty-first.

[FR Doc. 2017-06945

Filed 4-4-17; 11:15 am]

Billing code 3295-F7-P